FEDERAL COMMUNICATIONS COMMISSION

47 CFR Part 73

[DA 00-2029, MM Docket No. 00-68; RM-9792]

Digital Television Broadcast Services; Norfolk, VA

AGENCY: Federal Communications Commission.

ACTION: Final rule.

SUMMARY: The Commission, at the request of WTKR-TV, Inc., licensee of station WTKR-TV, NTSC Channel 3, Norfolk, Virginia, substitutes DTV Channel 40 for station WTKR-TV's assigned DTV Channel 58 at Norfolk. See 65FR 24670, April 27, 2000. DTV Channel 40 can be allotted to Norfolk at coordinates (36-48-56 N. and 76-28-00 W.) with a power of 1000, HAAT of 313 meters and with a DTV service population of 1761 thousand. With this action, this proceeding is terminated.

DATES: Effective October 23, 2000.

FOR FURTHER INFORMATION CONTACT: Pam Blumenthal, Mass Media Bureau, (202) 418-1600.

SUPPLEMENTARY INFORMATION: This is a synopsis of the Commission's Report and Order, MM Docket No. 00-68, adopted September 7, 2000, and released September 8, 2000. The full text of this Commission decision is available for inspection and copying during normal business hours in the FCC Reference Center, 445 12th Street, S.W., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334. 336.

§ 73.622 [Amended]

2. Section 73.622(b), the Table of Digital Television Allotments under Virginia, is amended by removing DTV Channel 58 and adding DTV Channel 40 at Norfolk.

Federal Communications Commission.
Barbara A. Kreisman,
Chief, Video Services Division, Mass Media Bureau.

[FR Doc. 00-23271 Filed 9-8-00; 8:45 am]

BILLING CODE 6712-01-P